DEPARTMENT OF COMMERCE

International Trade Administration

[A-821-817]

Notice of Postponement of Preliminary Determination of Antidumping Duty Investigation: Silicon Metal From the Russian Federation

AGENCY: Import Administration, International Trade Administration, Department of Commerce.

ACTION: Notice of postponement of preliminary determination in the antidumping duty investigation of silicon metal from the Russian Federation.

SUMMARY: The Department of Commerce (“Department”) is postponing the preliminary determination in the antidumping duty investigation of silicon metal from the Russian Federation from August 14, 2002, until no later than September 13, 2002. This postponement is made pursuant to section 733(c)(1)(B) of the Tariff Act of 1930, as amended.

EFFECTIVE DATE: August 9, 2002.

FOR FURTHER INFORMATION CONTACT: Carrie Blozy or Cheryl Werner, at the Import Administration, International Trade Administration, U.S. Department of Commerce, 1401 Constitution Avenue, NW, Washington, DC 20230; telephone: (202) 482-0165, (202) 482-2667 respectively.

Applicable Statute and Regulations

Unless otherwise indicated, all citations to the statute are references to the provisions effective January 1, 1995, the effective date of the amendments made to the Tariff Act of 1930 (“Act”) by the Uruguay Round Agreements Act. In addition, unless otherwise indicated, all citations to the Department's regulations are to 19 CFR part 351 (2002).

Postponement of Preliminary Determination

On March 27, 2002, the Department initiated an antidumping duty investigation of imports of silicon metal from the Russian Federation. The notice of initiation stated that we would issue our preliminary determination no later than 140 days after the date of initiation. See 67 FR 15791 (April 3, 2002).

Under section 733(c)(1)(B) of the Act, the Department can extend the period for reaching a preliminary determination until not later than the 190th day after the date on which the administering authority initiates an investigation if:

(B) The administering authority concludes that the parties concerned are cooperating and determines that:

(i) The case is extraordinarily complicated by reason of:

(I) The number and complexity of the transactions to be investigated or adjustments to be considered,

(II) The novelty of the issues presented, or

(III) The number of firms whose activities must be investigated; and

(ii) Additional time is necessary to make the preliminary determination.

Regarding the first requirement, we find that all concerned parties are cooperating. Regarding the second requirement, we find that this case is extraordinarily complicated for the following reasons:

The investigation of Bratsk Aluminum Smelter (“BAS”) and Rual Trade Limited (“RTL”) is extraordinarily complicated because of several parties, involvement in the sale of silicon metal to the United States and the complex issues associated with it. The Department is considering the relationship between RTL, the exporter, and BAS, the producer, as well as Russian Aluminum Management (“RAM”) and Russian Aluminum (“RA”), for the sale or exportation of silicon metal to the United States. The investigation of ZAO Kremny, SUAL-Kremny-Ural (“SKU”), and Pultwen Ltd. is extraordinarily complicated because of several parties' involvement in the production and sale of silicon metal to the United States. Both ZAO Kremny and SKU are producers of the subject merchandise. Moreover, we are examining whether a principal/agent relationship exists between Pultwen Ltd. and a certain U.S. customer of silicon metal. We have issued several extensive supplemental questionnaires to ZAO Kremny, SKU, and Pultwen Ltd. regarding their production, sales and distribution process. For these reasons, pursuant to 733(c)(1)(B) of the Act, we are postponing the preliminary determination in this investigation until September 13, 2002.

This notice is issued and published pursuant to section 733(c)(2) of the Act and 19 CFR 351.205(f).

Dated: August 2, 2002.
Faryar Shirzad,
Assistant Secretary for Import Administration.

[FR Doc. 02-20239 Filed 8-8-02; 8:45 am]

BILLING CODE 3510-DS-P